DEPARTMENT OF AGRICULTURE

Agricultural Marketing Service

[Doc. No. AMS-SC-16-0026]

Fruit and Vegetable Industry Advisory Committee

AGENCY: Agricultural Marketing Service, USDA.

ACTION: Notice of a call for nominations.

SUMMARY: Pursuant to the Federal Advisory Committee Act, the Agricultural Marketing Service (AMS) is announcing a call for nominations to the Fruit and Vegetable Industry Advisory Committee. The Committee was re-chartered in July 2015 for the 2015-2017 two-year term.

DATES: Written nominations must be received on or before May 4, 2016.

ADDRESSES: Nominations should be sent to Charles W. Parrott, Deputy Administrator, Specialty Crops Program, through Pamela Stanziani, Designated Federal Officer, at AMS, USDA, 1400 Independence Avenue SW., Room 2077-S, Stop 0235, Washington, DC 20250-0235; Facsimile: (202) 720-0016. Email: pamela.stanziani@ams.usda.gov.

FOR FURTHER INFORMATION CONTACT: Pamela Stanziani, Designated Federal Official; Phone: (202) 720-3334; Email: pamela.stanziani@ams.usda.gov.

SUPPLEMENTARY INFORMATION: Pursuant to the Federal Advisory Committee Act (FACA) (5 U.S.C. App.), notice is hereby given that the Secretary of Agriculture intends to nominate twelve (12) industry members to the Fruit and Vegetable Industry Advisory Committee to serve two-year terms. The purpose of the Committee is to examine the full spectrum of issues faced by the fruit and vegetable industry, and provide suggestions and ideas to the Secretary on how USDA can tailor its programs to better meet the fruit and vegetable industry's needs. The Deputy Administrator of the Agricultural Marketing Service's Specialty Crops Program will serve as the Committee's Executive Secretary. Representatives from USDA mission areas and agencies affecting the fruit and vegetable industry will be called upon to participate in the Committee's meetings as determined by the Committee Chairperson.

Industry members will be appointed by the Secretary of Agriculture and serve two-year terms. Committee membership consists of twenty-five (25) members who represent the fruit and vegetable industry and will include individuals representing fruit and vegetable growers/shippers, wholesalers, brokers, retailers/restauranteurs, processors, fresh cut processors, foodservice suppliers, farmers markets and food hubs, state agencies involved in organic and conventional fresh fruits and vegetables at local, regional and national levels, State departments of agriculture, and trade associations and other commodity organizations.

The Secretary of Agriculture invites those individuals, organizations, and groups affiliated with the categories listed above to nominate individuals or themselves for membership on the Committee. Nominations should describe and document the proposed member's fruit and vegetable industry qualifications for membership to the Committee, and list their name, company/organization, address, telephone number, email, and fax number. The Secretary of Agriculture seeks a diverse group of members representing a broad spectrum of persons interested in providing suggestions and ideas on how USDA can tailor its programs to meet the fruit and vegetable industry's needs.

Individuals who are nominated will receive necessary qualification and background forms from USDA for membership. The biographical information and clearance forms must be completed and returned to USDA within 10 working days of notification, to expedite the clearance process that is required before selection of Committee members by the Secretary of Agriculture.

Equal opportunity practices will be followed in all appointments to the Committee in accordance with USDA policies. To ensure that the recommendations of the Committee take into account the needs of the diverse groups served by USDA, membership shall include, to the extent practicable, individuals with demonstrated ability to represent minorities, women, persons with disabilities, and limited resource agriculture producers.

Dated: March 30, 2016.
Elanor Starmer,
Administrator, Agricultural Marketing Service.

[FR Doc. 2016-07631 Filed 4-6-16; 8:45 am]

BILLING CODE 3410-02-P